DEPARTMENT OF TRANSPORTATION

Federal Aviation Administration

14 CFR Part 97

[Docket No. 30431; Amdt. No. 3111]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: This rule is effective December 14, 2004. The compliance date for each SIAP is specified in the amendatory provisions.

The incorporation by reference of certain publications listed in the regulations is approved by the Director of the Federal Register as of December 14, 2004.

ADDRESSES: Availability of matters incorporated by reference in the amendment is as follows:

For Examination—

1. FAA Rules Docket, FAA Headquarters Building, 800 Independence Avenue, SW., Washington, DC 20591;

2. The FAA Regional Office of the region in which the affected airport is located;

3. The Flight Inspection Area Office which originated the SIAP; or,

4. The National Archives and Records Administration (NARA). For information on the availability of this material at NARA, call 202-741-6030, or go to: http://www.archives.gov/federal_register/code_of_federal_regulations/ibr_locations.html.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd. Oklahoma City, OK 73169 (Mail Address: P.O. Box 25082 Oklahoma City, OK 73125) telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, and Navigation (Air).

Issued in Washington, DC, on December 3, 2004.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

. . . Effective 20 January 2005

Clarksville, AR, Clarksville Muni, RNAV (GPS) RWY 9, Orig-A

Beckwourth, CA, Nervino, RNAV (GPS) RWY 25, Orig

Fort Lauderdale, FL, Fort Lauderdale-Hollywood Intl, RNAV (GPS) RWY 27R, Orig-B

Orlando, FL, Executive, RNAV (GPS) RWY 7, Orig-B

Orlando, FL, Orlando Intl, RNAV (GPS) RWY 17R, Orig-C

Columbus, GA, Columbus Metropolitan, RADAR-1, Amdt 8B, CANCELLED

Hinesville, GA, Liberty County, RNAV (GPS) RWY 32, Orig-A

Macon, GA, Macon Downtown, RADAR-1, Amdt 3, CANCELLED

Macon, GA, Middle Georgia Regional, RADAR-1, Amdt 14, CANCELLED

Montezuma, GA, Dr. C.P. Savage Sr, RNAV (GPS) RWY 36, Orig-A

Vidalia, GA, Vidalia Regional, RNAV (GPS) RWY 24, Orig-A

Jackson, KY, Julian Carroll, RNAV (GPS) RWY 1, Orig-A

Batesville, MS, Panola County, RNAV (GPS) RWY 1, Orig-A

Batesville, MS, Panola County, RNAV (GPS) RWY 19, Orig-A

Philadelphia, MS, Philadelphia Muni, RNAV (GPS) RWY 36, Orig-A

Raymond, MS, John Bell Williams, RNAV (GPS) RWY 12, Orig-B

Raymond, MS, John Bell Williams, RNAV (GPS) RWY 30, Orig-B

Grants, NM, Grants-Milan Muni, RNAV (GPS) 31, Orig-A

Santa Fe, NM, Santa Fe Muni, RNAV (GPS) RWY 20, Orig-A

Santa Fe, NM, Santa Fe Muni, RNAV (GPS) RWY 28, Orig-A

Beaufort, NC, Michael J. Smith Field, RNAV (GPS) RWY 3, Orig-A

Beaufort, NC, Michael J. Smith Field, RNAV (GPS) RWY 8, Orig-A

Beaufort, NC, Michael J. Smith Field, RNAV (GPS) RWY 32, Orig-A

Elizabeth City, NC, Elizabeth City Coast Guard Air Station/Regional, RNAV (GPS) RWY 1, Orig-A

Greenville, NC, Pitt-Greenville, ILS OR LOC RWY 20, Amdt 4

Greenville, NC, Pitt-Greenville, RNAV (GPS) RWY 20, Amdt 1

Greenville, NC, Pitt-Greenville, RNAV (GPS) RWY 8, Amdt 1

Greenville, NC, Pitt-Greenville, RNAV (GPS) RWY 2, Orig

Greenville, NC, Pitt-Greenville, RNAV (GPS) RWY 26, Amdt 1

Greenville, NC, Pitt-Greenville, RNAV (GPS) Y RWY 2, Orig, CANCELLED

Greenville, NC, Pitt-Greenville, RNAV (GPS) Z RWY 2, Orig, CANCELLED

Statesville, NC, Statesville Regional, LOC/DME RWY 28, Orig

Henryetta, OK, Henryetta Muni, RNAV (GPS) RWY 36, Orig-A

Oklahoma City, OK, Clarence E. Page Muni, RNAV (GPS) RWY 35L, Orig-A

Ponca City, OK, Ponca City Regional, RNAV (GPS) RWY 35, Orig-A

Wagoner, OK, Hefner-Easley, RNAV (GPS) RWY 18, Orig-A

Wagoner, OK, Hefner-Easley, RNAV (GPS) RWY 36, Orig-A

Baytown, TX, R W J Airpark, RNAV (GPS) RWY 26, Amdt 1

Baytown, TX, R W J Airpark, RNAV (GPS) RWY 32, Orig

Baytown, TX, R W J Airpark, VOR/DME RWY 32, Amdt 5

Baytown, TX, R W J Airpark, GPS RWY 32, Orig, CANCELLED

Baytown, TX, R W J Airpark, VOR/DME RNAV RWY 26, Amdt 1, CANCELLED

Dallas, TX, Addison, RNAV (GPS) RWY 33, Orig-A

Chase City, VA, Chase City Muni, RNAV (GPS) RWY 18, Orig

Chase City, VA, Chase City Muni, RNAV (GPS) RWY 36, Orig

. . . Effective 17 February 2005

Apple Valley, CA, Apple Valley, RNAV (GPS) RWY 18, Orig-B

. . . Effective 17 March 2005

Kalskag, AK, Kalskag, RNAV (GPS) RWY 6, Orig

Kalskag, AK, Kalskag, RNAV (GPS)-A, Orig

Kalskag, AK, Kalskag, GPS RWY 6, Orig-A, CANCELLED

Kalskag, AK, Kalskag, GPS RWY 24, Orig-A, CANCELLED

Tracy, MN, Tracy Muni, RNAV (GPS) RWY 11, Orig

Tracy, MN, Tracy Muni, RNAV (GPS) RWY 29, Orig

Madison, WI, Dane County Regional-Truax Field, RNAV (GPS) RWY 14, Amdt 1

Madison, WI, Dane County Regional-Truax Field, RNAV (GPS) RWY 18, Amdt 1

Madison, WI, Dane County Regional-Truax Field, RNAV (GPS) RWY 21, Amdt 1

Madison, WI, Dane County Regional-Truax Field, RNAV (GPS) RWY 32, Amdt 1

Madison, WI, Dane County Regional-Truax Field, RNAV (GPS) RWY 36, Amdt 1

Madison, WI, Dane County Regional-Truax Field, ILS OR LOC/DME RWY 18, Orig

Madison, WI, Dane County Regional-Truax Field, ILS OR LOC/DME RWY 21, Orig

Madison, WI, Dane County Regional-Truax Field, ILS OR LOC/DME RWY 36, Orig

Madison, WI, Dane County Regional-Truax Field, ILS RWY 18, Amdt 7C, CANCELLED

Madison, WI, Dane County Regional-Truax Field, ILS RWY 21, Orig-A, CANCELLED

Madison, WI, Dane County Regional-Truax Field, ILS RWY 36, Amdt 29D, CANCELLED

Madison, WI, Dane County Regional-Truax Field, RADAR-1, Amdt 17

The FAA published an Amendment in Docket No. 30430, Amdt No. 3110 to Part 97 of the Federal Aviation Regulations under section 97.33 effective 20 JAN 2005 in Transmittal Letter 04-26. The following SIAP is hereby rescinded. The SIAP has not yet been published in the Federal Register. Transmittal Letter 05-02 dated 17DEC05 will contain the information related to the Federal Register.

Deadhorse, AK, Deadhorse, LOC/DME BC RWY 22, Amdt 10

The procedures listed below appeared in Transmittal Letter 04-26, all were incorrectly associated with the state of Alabama (AL) on page 7 of the part 97 Docket. The correct state of association is Alaska (AK). The 8260 series forms were correct and do not need to be published again. Corrections appear below:

Point Lay, AK, Point Lay LRRS, RNAV (GPS) RWY 5, Orig

Point Lay, AK, Point Lay LRRS, RNAV (GPS) RWY 23, Orig

Point Lay, AK, Point Lay LRRS, NDB RWY 5, Orig

Point Lay, AK, Point Lay LRRS, NDB RWY 5, Orig, CANCELLED

Point Lay, AK, Point Lay LRRS, GPS RWY 5, Orig, CANCELLED

Point Lay, AK, Point Lay LRRS, GPS RWY 23, Orig, CANCELLED

[FR Doc. 04-27218 Filed 12-13-04; 8:45 am]

BILLING CODE 4910-13-P